DEPARTMENT OF DEFENSE

Office of the Secretary

[Transmittal No. 16-40]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Chandelle K. Parker, DSCA/LMO, (703) 697-9027.

The following is a copy of a letter to the Speaker of the House of Representatives, Transmittal 16-40 with attached Policy Justification and Sensitivity of Technology.

Dated: July 20, 2016.
Aaron Siegel,
Alternate OSD Federal Register Liaison Officer, Department of Defense.

BILLING CODE 5001-06-P

BILLING CODE 5001-06-C

Transmittal No. 16-40

Notice of Proposed Issuance of Letter of Offer Pursuant to Section 36(b)(1) of the Arms Export Control Act, as amended

(i) Prospective Purchaser: Government of Israel

(ii) Total Estimated Value:

Major Defense Equipment * | $55 million
Other | $245 million
TOTAL | $300 million

(iii) Description and Quantity or Quantities of Articles or Services Under Consideration for Purchase:

Major Defense Equipment (MDE):

Twelve (12) T-700 GE 401C engines (ten (10) installed and two (2) spares)

Non-MDE:

This request also includes the following non-MDE items: eight (8) AN/APN-194(V) Radar Altimeters, eight (8) AN/APN-217A Doppler Radar Navigation Sets, eight (8) AN/ARN-15l (V)2 Global Positioning Systems, eight (8) AN/APX-100(V) Identification Friend or Foe (IFF) Transponder Sets, eight (8) OA-8697 A/ARD Direction Finding Groups, eight (8) AN/ARN-118(V) NAV Receivers, eight (8) AN/ARN-146 On Top Position Indicators, sixteen (16) IP-1544A/ASQ-200 Horizontal Situation Video Displays (HSVD), eight (8) AN/ARC-174A (V)2 HF Radios, sixteen (16) AN/ARC182(V) UHF/UHF Radios, eight (8) PIN 70600-81010-011 Communication System Controllers, eight (8) GAU-16 50 Caliber Machine Guns, eight (8) M-60D/M-240 Machine Guns, eight (8) Internal Auxiliary Fuel Tanks, sixteen (16) External Auxiliary Fuel Tanks, and eight (8) C-11822/AWQ Controllers, Armament System. Also included are spares and repair parts, support and test equipment, communication equipment, ferry support, publications and technical documentation, U.S. Government and contractor engineering, technical and logistics support services, and other related elements of logistical and program support.

(iv) Military Department: Navy

(v) Prior Related Cases, if any: None

(vi) Sales Commission, Fee, etc., Paid, Offered, or Agreed To Be Paid: None

(vii) Sensitivity of Technology Contained in the Defense Article or Defense Services Proposed To Be Sold: See Annex attached.

(viii) Date Report Delivered to Congress: 5 July 2016

* as defined in Section 47(6) of the Arms Export Control Act.

POLICY JUSTIFICATION

Israel—Excess SH-60F Sea-Hawk Helicopter equipment and support:

The Government of Israel has requested to procure twelve (12) T-700 GE 401C engines (ten (10) installed and two (2) spares), eight (8) AN/APN-194(V) Radar Altimeters; eight (8) AN/APN-217A Doppler Radar Navigation Sets; eight (8) AN/ARN-15l (V)2 Global Positioning Systems; eight (8) AN/APX-100(V) Identification Friend or Foe (IFF) Transponder Sets; eight (8) OA-8697 A/ARD Direction Finding Groups; eight (8) AN/ARN-118(V) NAV Receivers; eight (8) AN/ARN-146 On Top Position Indicators; sixteen (16) IP-1544A/ASQ-200 Horizontal Situation Video Displays (HSVD); eight (8) AN/ARC-174A (V)2 HF Radios; sixteen (16) AN/ARC182(V) UHF/UHF Radios; eight (8) PIN 70600-81010-011 Communication System Controllers; eight (8) GAU-16 50 Caliber Machine Guns; eight (8) M-60D/M-240 Machine Guns; eight (8) Internal Auxiliary Fuel Tanks; sixteen (16) External Auxiliary Fuel Tanks; and eight (8) C-11822/AWQ Controllers, Armament System. Also included are spares and repair parts, support and test equipment, communication equipment, ferry support, publications and technical documentation, U.S. Government and contractor engineering, technical and logistics support services, and other related elements of logistical and program support. The estimated cost is $300 million.

This proposed sale will contribute to the foreign policy and national security of the United States by helping to improve the security of a strategic regional partner, which has been, and continues to be, an important force for political stability and economic progress in the Middle East.

Israel has been approved to receive eight (8) SH-60F Sea Hawk Helicopters via the Excess Defense Articles (EDA) Program under a separate notification. That separate notification included only the SH-60 airframes, thus this transmittal includes all the major components and customer-unique requirements requested to supplement the EDA grant transfer.

Israel has purchased four new frigates to secure the Leviathan Natural Gas Field. The SH-60F helicopters will be used onboard these new frigates to patrol and protect these gas fields as well as other areas under threat.

The proposed sale will improve Israel's capability to meet current and future threats. The SH-60F Sea-Hawk Helicopters along with the parts, systems, and support enumerated in this notification will provide the capability to perform troop/transport deployment, communications relay, gunfire support, and search and rescue. Secondary missions include vertical replenishment, combat search and rescue, and humanitarian missions. Israel will use the enhanced capability as a deterrent to regional threats and to strengthen its homeland defense. Israel will have no difficulty absorbing this equipment into its armed forces.

The proposed sale of this equipment and support will not alter the basic military balance in the region.

The principal contractors will be Science and Engineering Services, LLC, Huntsville, Alabama, and General Electric (GE) of Lynn, Massachusetts. There are no known offset agreements proposed in connection with this potential sale.

Implementation of this proposed sale will require the assignment of additional U.S. Government and/or contractor representatives to Israel.

Transmittal No. 16-40

Notice of Proposed Issuance of Letter of Offer Pursuant to Section 36(b)(1) of the Arms Export Control Act

Annex

Item No. vii

(vii) Sensitivity of Technology:

1. The U.S. Navy primarily employed the SH-60F as an aircraft carrier based anti-submarine warfare aircraft and a search and rescue support aircraft during carrier flight operations. Unless otherwise noted below, SH-60F hardware and support equipment, test equipment and maintenance spares are UNCLASSIFIED.

2. Global Positioning System (GPS)/Precise Positioning Service (PPS)/Selective Availability Anti-spoofing Module (SAASM). The GPS/PPS/SAASM provides a Space-based Global Navigation Satellite System (GNSS) that provides reliable location and time information in all weather at all times and anywhere on or near the Earth when the signal is unobstructed line of site to four or more GPS satellites.

3. The AN/ARC-182-electronic counter-countermeasures (ECCM) Radio is a combined Very High Frequency (VHF)/Ultra High Frequency (UHF) military communications system designed for all types of fixed-wing aircraft and helicopters. Small and light enough to be especially attractive for installation in the lighter aircraft classes, it covers the frequency bands from 30 to 88 MHz in FM, 116 to 156 MHz in AM, 156 to 174 MHz in FM and for the UHF band 225 to 400 MHz in both AM and FM modes. Additionally, a receiver-only facility covering the band 108 to 116 MHz is provided for navigation purposes. Channel spacing throughout the range is at 25 KHz intervals.

4. The AN/ARC-174A (V)2 HF Radio provides capability to transmit and receive on Upper Sideband (USB), Lower Sideband (LSB), and Amplitude Modulation (AM).

5. A determination has been made that Government of Israel can provide substantially the same degree of protection for the sensitive technology being released as the U.S. Government. This sale is necessary in furtherance of the U.S. foreign policy and national security objectives outlined in the Policy Justification.

6. All defense articles and services listed in this transmittal have been authorized for release and export to Israel.

[FR Doc. 2016-17466 Filed 7-22-16; 8:45 am]

BILLING CODE 5001-06-P